DEPARTMENT OF COMMERCE

National Oceanic and Atmospheric Administration

RIN 0648-XC050

Marine Mammals; File No. 17236

AGENCY: National Marine Fisheries Service (NMFS), National Oceanic and Atmospheric Administration (NOAA), Commerce.

ACTION: Notice; issuance of permit.

SUMMARY: Notice is hereby given that a permit has been issued to Robert A. Garrott, Ecology Department, Montana State University, 310 Lewis Hall, Bozeman, MT 59717 to conduct research on Weddell seals (Leptonychotes weddellii) for scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Colette Cairns or Tammy Adams, (301) 427-8401.

SUPPLEMENTARY INFORMATION: On May 31, 2012, notice was published in the Federal Register (77 FR 32081) that a request for a permit to conduct research on Weddell seals had been submitted by the above-named applicant. The requested permit has been issued under the authority of the Marine Mammal Protection Act of 1972, as amended (16 U.S.C. 1361 et seq.).

The permit holder is authorized to continue long-term studies of the Weddell seal population in the Erebus Bay, McMurdo Sound, Ross Sea and White Island areas of Antarctica. Up to 425 adults and 700 pups will be captured annually. Animals will be weighed, tissue sampled, flipper tagged, and released. A subset of 200 pups annually will have a small temperature logging tag attached. The permit holder is authorized to opportunistically collect, import, and export Weddell seal parts and carcasses. Annually, up to 2,000 Weddell, 50 crabeater (Lobodon carcinophagus), and 50 leopard (Hydrurga leptonyx) seals may be incidentally disturbed as a result of research activities. Up to 4 (2 adults and 2 pups) Weddell seal research-related mortalities are authorized annually. The permit is valid for five years from the date of issuance.

In compliance with the National Environmental Policy Act of 1969 (42 U.S.C. 4321 et seq.), a final determination has been made that the activity proposed is categorically excluded from the requirement to prepare an environmental assessment or environmental impact statement.

Dated: August 31, 2012.
Tammy C. Adams,
Acting Chief, Permits and Conservation Division, Office of Protected Resources, National Marine Fisheries Service.

[FR Doc. 2012-22112 Filed 9-6-12; 8:45 am]

BILLING CODE 3510-22-P